DEPARTMENT OF TRANSPORTATION

Federal Aviation Administration

14 CFR Part 39

[Docket No. 2003-NM-198-AD]

RIN 2120-AA64

Airworthiness Directives; McDonnell Douglas Model DC-9-10, -20, -30, -40, and -50 Series Airplanes; Model DC-9-81 (MD-81), -82 (MD-82), -83 (MD-83), and -87 (MD-87) Airplanes; and Model MD-88 Airplanes

AGENCY: Federal Aviation Administration (FAA), Department of Transportation (DOT).

ACTION: Supplemental notice of proposed rulemaking; reopening of comment period.

SUMMARY: This document revises an earlier proposed airworthiness directive (AD), applicable to certain McDonnell Douglas Model DC-9-10, -20, -30, -40, and -50 series airplanes; Model DC-9-81 (MD-81), -82 (MD-82), -83 (MD-83), and -87 (MD-87) airplanes; and Model MD-88 airplanes. That proposed AD would have required repetitive inspections and functional tests of the static port heater assemblies, an inspection of the static port heaters and insulators, and corrective actions if necessary. This new action revises the proposed AD by adding repetitive inspections of the static port heaters and insulators and revising the functional test of the static port heater. The actions specified by this new proposed AD are intended to prevent an electrical short of the static port heater from sparking and igniting the insulation blanket adjacent to the static port heater, which could result in smoke and/or fire in the cabin area. This action is intended to address the identified unsafe condition.

DATES: Comments must be received by January 17, 2006.

ADDRESSES: Submit comments in triplicate to the Federal Aviation Administration (FAA), Transport Airplane Directorate, ANM-114, Attention: Rules Docket No. 2003-NM-198-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-198-AD” in the subject line and need not be submitted in triplicate. Comments sent via the Internet as attached electronic files must be formatted in Microsoft Word 97 or 2000 or ASCII text.

The service information referenced in the proposed AD may be obtained from Boeing Commercial Airplanes, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION:

Comments Invited

Interested persons are invited to participate in the making of the proposed AD by submitting such written data, views, or arguments as they may desire. Communications shall identify the Rules Docket number and be submitted in triplicate to the address specified above. All communications received on or before the closing date for comments, specified above, will be considered before taking action on the proposed AD. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed AD. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-198-AD.” The postcard will be date stamped and returned to the commenter.

Availability of NPRMs

Any person may obtain a copy of this NPRM by submitting a request to the FAA, Transport Airplane Directorate, ANM-114, Attention: Rules Docket No. 2003-NM-198-AD, 1601 Lind Avenue, SW., Renton, Washington 98055-4056.

Discussion

A proposal to amend part 39 of the Federal Aviation Regulations (14 CFR part 39) to add an airworthiness directive (AD) was published as a notice of proposed rulemaking (NPRM) in the Federal Register on March 8, 2004 (69 FR 10636). That NPRM was applicable to certain McDonnell Douglas Model DC-9-10, -20, -30, -40, and -50 series airplanes; Model DC-9-81 (MD-81), -82 (MD-82), -83 (MD-83), and -87 (MD-87) airplanes; and Model MD-88 airplanes. That NPRM would have required repetitive inspections and functional tests of the static port heater assemblies, an inspection of the static port heaters and insulators, and corrective actions if necessary. That NPRM was prompted by studies that revealed that the wiring of the static port heater assembly may be damaged. That condition, if not corrected, could result in an electrical short of the static port heater and consequent sparking and ignition of the insulation blanket adjacent to the static port heater, which could result in smoke and/or fire in the cabin area.

Actions Since Issuance of Previous Proposal

The airplane manufacturer informed the FAA that the functional test of the left and right primary and alternate static port heater assemblies must be revised to prevent damaging the aircraft fuselage skin. An operator informed the airplane manufacturer that performing the current functional test would overheat and damage the aircraft fuselage skin. Therefore the airplane manufacturer has revised the functional test and issued Boeing Service Bulletin DC9-30-097, Revision 2, dated May 27, 2005, which references the revised functional test (Boeing Service Bulletin DC9-30-097, Revision 01, dated January 24, 2003, is cited as the appropriate source of service information for doing functional tests specified in the original NPRM). We have revised this supplemental NPRM to reference Revision 2 of Boeing Service Bulletin DC9-30-097 as the appropriate source of service information for accomplishing certain proposed inspections, replacements, and functional tests.

We have also considered the following comments we received in response to the original NPRM:

Agrees With Original NPRM

One commenter generally agrees with the original NPRM.

Request To Add Repetitive Inspections

The National Transportation Safety Board (NTSB) requests that the inspection specified in paragraph (b)(2) of the original NPRM be changed from a one-time inspection to a repetitive inspection. The NTSB is concerned that incorrect stacking of the heater and insulator may occur after the one-time inspection. The NTSB states that repetitive inspections at the same interval as the inspection specified in paragraph (b)(1) of the original NPRM would identify incorrect stacking without placing an undue burden on operators.

We agree with the NTSB that the inspection specified in paragraph (b)(2) of the supplemental NPRM be changed to a repetitive inspection. Incorrect stacking of the heater and insulator will cause higher-than-normal operating temperature locally in the insulation blanket, which would lead to quicker deterioration and aging of the rubber, causing it to crack and lead to electrical shorting or arcing. In consideration of this unsafe condition and the potential for incorrect stacking, we have determined that a repetitive inspection of the heater and insulator for incorrect stacking is necessary. We have revised paragraph (b) of the supplemental NPRM accordingly.

Request To Withdraw the Original NPRM

Two commenters request that the original NPRM be withdrawn. One commenter, the airplane manufacturer, contends that the unsafe condition no longer exists. The commenter states that the unsafe condition was addressed by Boeing Alert Service Bulletin MD90-30A023, including Appendix, dated March 14, 2001 (for Model MD-90-30 airplanes); and by Boeing Alert Service Bulletin MD80-30A092, including Appendix, dated March 14, 2001 (for Model DC-9-81, -82, -83, and -87 airplanes, and Model MD-88 airplanes). The commenter notes that those service bulletins were mandated by AD 2001-10-11, amendment 39-12237 (66 FR 28651, May 24, 2001), and by AD 2001-10-10, amendment 39-12236 (66 FR 28643, May 24, 2001). The commenter states that those ADs require inspecting the wiring of the primary and alternate static port heaters, determining if the type of insulation blanket installed is metallized Mylar, and modifying the insulation blankets if necessary.

The commenter also states that a review of operators' reports indicates that only two events resulted in smoke in the cabin, both on one operator's Model MD-88 airplanes. One event resulted in the issuance of the service bulletins described previously, and the other event report stated that a smoke smell was “evident.” The commenter notes that “in the three years since the release of these service bulletins and the related ADs, no other static port heater smoke/fire events have been reported from the entire MD-80/90 fleet.” The commenter believes that the actions in the original NPRM are purely an enhancement; thus, the NPRM should be withdrawn.

The other commenter states that the cause of the smoke in the cabin was determined to be an electrical short of the static port heater, which caused a spark that ignited the metallized Mylar insulation blanket adjacent to the heater. The commenter contends that Boeing Alert Service Bulletin MD80-30A092 was issued to address the unsafe condition by inspecting the static port heater wiring and modifying or removing the metallized Mylar insulation blankets. The commenter notes that it accomplished this service bulletin to comply with AD 2001-10-10 and found no faults in any of the static port heaters. The commenter believes this addresses the unsafe condition and therefore the original NPRM is not needed.

We do not agree with the commenters' requests to withdraw the original NPRM. Although no other static port heater smoke/fire events have been reported since we issued ADs 2001-10-10 and 2001-10-11, the potential for sparks from an electrical short of the static port heater to ignite the insulation blanket adjacent to the static port heater and result in smoke and/or fire in the cabin area still exists. While ADs 2001-10-10 and 2001-10-11 require only a one-time inspection of the wiring of the static port heaters, this supplemental NPRM would require repetitive functional tests and inspections of the static port heater assemblies and wiring. The proposed repetitive inspections are required to identify and remove marginal static port heaters before they fail and generate sparks. Therefore, we have not withdrawn this supplemental NPRM.

Request To Revise Airplane Maintenance Manual (AMM) Reference

One commenter requests that the reference to AMM 30-32-00 be revised to AMM 30-30-00. The commenter believes the reference in paragraph (b)(2) of the original NPRM is in error as it is not reflected in either the DC-9 or the MD-80 AMMs.

We agree with the commenter that the reference should be revised to Boeing Model DC-9 AMM 30-30-00 for Model DC-9 airplanes only. For Model DC-9 airplanes, AMM 30-30-00 contains the instructions for performing a general visual inspection of the left and right primary and alternate static port heater and insulator for proper installation. For Model MD-80 airplanes, Boeing Model MD-80 AMM 30-30-01 contains the same instructions. We have revised paragraph (b)(2) of the supplemental NPRM accordingly.

Request To Remove Model DC-9 Airplanes From the Applicability

One commenter requests that Model DC-9-10, -20, -30, -40, and -50 series airplanes be removed from the applicability of the original NPRM. The commenter states that the original NPRM addresses known problems on the Model DC-9-81 (MD-81), -82 (MD-82), -83 (MD-83), and -87 (MD-87) airplanes, and Model MD-88 airplanes, and extends a proposed solution to Model DC-9-10, -20, -30, -40, and -50 series airplanes. The commenter notes that the shorted wiring at the static port heater blanket caused or contributed to an instance of a metallized Mylar insulation blanket being ignited. The commenter believes the unsafe condition does not apply to Model DC-9-10, -20, -30, -40, and -50 series airplanes because those models do not use metallized Mylar insulation blankets.

We do not agree with the commenter to remove Model DC-9-10, -20, -30, -40, and -50 series airplanes from the applicability in this supplemental NPRM. The unsafe condition exists for airplanes on which there is a static port heater regardless of the type of insulation blanket adjacent to the heater. An electrical short of the static port heater from sparking could ignite the insulation blanket adjacent to the static port heater and result in smoke and/or fire in the cabin area. We have not revised the supplemental NPRM in this regard.

Request To Revise Compliance Times

The same commenter requests that the compliance times specified in paragraph (b) of the original NPRM be revised. The commenter notes that the initial inspection specified in the original NPRM is to be done within 18 months. However, the commenter proposes that the initial inspection be done within 36 months. The commenter contends that the area of inspection is not normally opened during the light checks that occur every 18 months and that the area would be open for the heavy checks that occur every 36 months. The commenter also suggests doing the repetitive inspections at intervals not to exceed 36 months instead of intervals not to exceed 48 months as specified in paragraph (b) of the original NPRM. The commenter concludes that their proposed compliance times would alleviate much of its labor impact.

We do not agree with the commenter to revise the compliance times in paragraph (b) of the supplemental NPRM. In developing an appropriate compliance time, we considered the safety implications, and normal maintenance schedules for timely accomplishment of the inspections specified in the supplemental NPRM. In consideration of all of these factors, we determined that the compliance times, as proposed, represent an appropriate interval in which the inspections can be accomplished, while still maintaining an adequate level of safety. Operators are always permitted to accomplish the requirements of an AD at a time earlier than the specified compliance time; therefore, an operator may choose to do the repetitive inspections at intervals earlier than 48 months. We have not revised the supplemental NPRM in this regard.

Request To Allow Further Flight Subject to the Conditions of the Maintenance Equipment List (MEL)

One commenter requests that provisions should be made to allow further flight subject to the conditions of the MEL when damaged or inoperative static port heater assemblies are found during an inspection specified by the original NPRM. The commenter notes that the original NPRM specifies that, if damage is found or the heater fails a functional test, the damaged or inoperative static port heater assembly must be replaced before further flight. The commenter states that the FAA-approved MEL item 30-6 allows the static port heaters to be inoperative for takeoff and landing under certain conditions, for up to 10 days. The commenter believes that provisions to allow the operator to collar the circuit breaker and permit further flight subject to the MEL should be made in the event of parts shortages or other unforeseen circumstances.

We do not agree with the commenter to make provisions to allow further flight subject to the conditions of the MEL when damaged or inoperative static port heater assemblies are found. MEL item 30-6 is based on meteorological conditions, which are subject to change, during takeoff and landing. We have not revised the supplemental NPRM in this regard. However, under the provisions of paragraph (e) of the supplemental NPRM, we may approve requests for adjustments to the compliance time if data are submitted to substantiate that such an adjustment would provide an acceptable level of safety.

Request To Exclude Certain Airplanes From Initial Inspection

One commenter requests that airplanes on which the metallized Mylar insulation blankets have been replaced be excluded from the initial inspection specified in paragraph (b) of the original NPRM. The commenter notes that it is well into its metallized Mylar insulation blanket replacement program for its Model MD-80 fleet. The commenter states that the reason to exclude these airplanes is because of the lack of findings during the inspection of the static port heaters in all of its airplanes in 2001.

We disagree with the commenter. As stated previously, the identified unsafe condition is on all airplanes specified in the applicability of the supplemental NPRM regardless of whether the insulation blankets are made of metallized Mylar. Therefore, even if the metallized Mylar insulation blankets have been removed or replaced, operators must do the inspections specified in paragraph (b) of the supplemental NPRM to inspect both the wiring in the static port connecter for damage and to inspect for proper installation of the static port heater and insulator. These inspections are required in order to address the identified unsafe condition. We have not revised the supplemental NPRM in this regard. However, under the provisions of paragraph (e) of the supplemental NPRM, we may consider requests for approval of an AMOC if sufficient data are submitted to substantiate that such an AMOC would provide an acceptable level of safety.

Request To Allow Replacement of a Heater as a Means of Compliance With the Initial Inspection

One commenter requests that replacing a static port heater in accordance with Boeing Service Bulletin MD80-34-289 be allowed as a means of compliance with the initial inspection specified in paragraph (b) of the original NPRM. The commenter states that most of its primary static ports and primary static port heaters were replaced during the accomplishment of Boeing Service Bulletin MD80-34-289 to comply with the requirements for domestic reduced vertical separation minimums (RVSM).

We do not agree with the commenter's request to allow replacement of the static port heater in accordance with Boeing Service Bulletin MD80-34-289, dated February 25, 1997, as a means of compliance with the initial inspection specified in paragraph (b) of the supplemental NPRM. The service bulletin, titled “Navigation—Attitude Indication—Inspect for Reduced Vertical Separation Minimums (RVSM) Requirements,” is for RVSMs that started being implemented March 27, 1997. However, the replacement procedure specified in the service bulletin does not comply with paragraph (b)(2) of the supplemental NPRM, which requires performing a general visual inspection of the static port heater and insulator for proper installation. We have not revised the supplemental NPRM in this regard. However, under the provisions of paragraph (e) of the final rule, we may approve requests for an alternate method of compliance (AMOC) if data are submitted to substantiate that such an AMOC would provide an acceptable level of safety.

Request To Clarify Drawing That Is Not Applicable to Certain Airplanes

One commenter notes that “Condition 2” of the service bulletin refers to McDonnell Douglas drawing SR09340158. However, the commenter states that the drawing is applicable to Model MD-80 airplanes, not to Model DC-9 airplanes. We infer from this that the commenter is requesting clarification of a drawing specified in Boeing Service Bulletin DC9-30-097, Revision 01, dated January 24, 2003.

We do not agree with the commenter that the drawing is not applicable to Model DC-9 airplanes. McDonnell Douglas drawing SR09340158 is applicable to both Model MD-80 airplanes and Model DC-9 airplanes. Because Model DC-9-80 (MD-80) airplanes are a derivative of the Model DC-9 airplanes, Boeing uses DC-9 and MD-80 drawings interchangeably. We have not revised the supplemental NPRM in this regard.

Request To Revise Cost Impact

Two commenters request that the Cost Impact section in the original NPRM be revised. One commenter notes that Boeing Service Bulletin DC9-30-097 estimates the labor to do the visual inspections and functional tests of the left and right primary and alternate static port heater assemblies to be 3.2 hours. The commenter estimates 6.0 labor hours to be more accurate. The other commenter notes that the service bulletin estimates either 2.8 or 3.2 labor hours to gain access, do the general visual inspection, and do the test. The commenter states that the original NPRM specifies only one labor hour to do the general visual inspection and test, and one labor hour to do the other inspection. The commenter also points out that the original NPRM does not include labor hours to do repairs “as required” and does not include the cost to replace any damaged or inoperative blankets, at approximately $500 to $1,000 each.

While we do not object to the figures provided by the commenters, we do not agree to revise the Cost Impact section in the supplemental NPRM. The cost information describes only the direct costs of the specific actions in the supplemental NPRM that will be required, based on data provided by the manufacturer for the number of work hours necessary to do the proposed actions. We recognize that, in doing the actions required by an AD, operators may incur incidental costs in addition to the direct costs. The cost analysis in AD rulemaking actions, however, typically does not include incidental costs such as the time required to gain access and close up, time necessary for planning, or time necessitated by other administrative actions. Those incidental costs, which may vary significantly among operators, are almost impossible to calculate. The economic analysis of an AD also does not consider the costs of “on-condition” actions (that is, actions needed to correct an unsafe condition and costs of associated parts) because, regardless of AD direction, those actions would be required to correct an unsafe condition identified in an airplane and ensure operation of that airplane in an airworthy condition, as required by the Federal Aviation Regulations. We have not revised the supplemental NPRM in this regard.

Clarification of AMOC Paragraph

We have revised this supplemental NPRM to clarify the appropriate procedure for notifying the principal inspector before using any approved AMOC on any airplane to which the AMOC applies.

Conclusion

Since the changes described above expand the scope of the original NPRM, the FAA has determined that it is necessary to reopen the comment period to provide additional opportunity for public comment.

Cost Impact

There are approximately 1,836 airplanes of the affected design in the worldwide fleet. The FAA estimates that 1,125 airplanes of U.S. registry would be affected by this proposed AD.

It would take approximately 1 work hour per airplane to accomplish the proposed general visual inspection for wire damage and functional test, at an average labor rate of $65 per work hour. Based on these figures, the cost impact of the proposed inspection for wire damage and functional test on U.S. operators is estimated to be $73,125, or $65 per airplane, per inspection cycle.

It would also take approximately 1 work hour per airplane to accomplish the proposed general visual inspection for proper installation, at an average labor rate of $65 per work hour. Based on these figures, the cost impact of the proposed inspection for proper installation on U.S. operators is estimated to be $73,125, or $65 per airplane, per inspection cycle.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2003-NM-198-AD.

Applicability: McDonnell Douglas Model DC-9-11, DC-9-12, DC-9-13, DC-9-14, DC-9-15, DC-9-15F, DC-9-21, DC-9-31, DC-9-32, DC-9-32 (VC-9C), DC-9-32F, DC-9-33F, DC-9-34, DC-9-34F, DC-9-32F (C-9A, C-9B), DC-9-41, DC-9-51, DC-9-81 (MD-81), DC-9-82 (MD-82), DC-9-83 (MD-83), and DC-9-87 (MD-87) airplanes, and Model MD-88 airplanes; certificated in any category; as identified in Boeing Service Bulletin DC9-30-097, Revision 2, dated May 27, 2005.

Compliance: Required as indicated, unless accomplished previously.

To prevent an electrical short of the static port heater from sparking and igniting the insulation blanket adjacent to the static port heater, which could result in smoke and/or fire in the cabin area, accomplish the following:

Service Bulletin References

(a) The term “service bulletin,” as used in this AD, means the Accomplishment Instructions of Boeing Service Bulletin DC9-30-097, Revision 2, dated May 27, 2005.

Inspection and Functional Test

(b) Within 18 months after the effective date of this AD, do the actions in paragraphs (b)(1) and (b)(2) of this AD. Repeat the actions thereafter at intervals not to exceed 48 months.

(1) Perform a general visual inspection of the left and right primary and alternate static port heater assemblies for wire damage; and perform a functional test of the left and right primary and alternate static port heater assemblies; in accordance with the service bulletin.

Note 1: For the purposes of this AD, a general visual inspection is: “A visual examination of an interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

(2) Perform a general visual inspection of the left and right primary and alternate static port heater and insulator for proper installation in accordance with a method approved by the Manager, Los Angeles Aircraft Certification Office (ACO). Inspecting for proper installation in accordance with “Heater, Static—Removal/Installation” of Airplane Maintenance Manual (AMM) 30-30-01 for Model MD-80 airplanes or “Pitot and Static—Maintenance Practices” of AMM 30-30-00 for Model DC-9 airplanes, as applicable, is one approved method. Before further flight, correct any improper installation in accordance with a method approved by the Manager, Los Angeles ACO. Correcting improper installation in accordance with AMM 30-30-01 or AMM 30-30-00, as applicable, is one approved method. For an inspection method or corrective method to be approved by the Manager, Los Angeles ACO, as required by this paragraph, the Manager's approval letter must specifically refer to this AD.

Wire Damage or Heater Failures

(c) If wire damage is found and/or the heater assembly fails the functional test during the general visual inspection and functional test required by paragraph (b)(1) of this AD: Before further flight, replace the damaged or inoperative static port heater assembly with a new or serviceable static port heater assembly in accordance with the service bulletin.

Actions Accomplished In Accordance With Previous Issue of Service Bulletin

(d) Inspections, functional tests, and corrective actions accomplished before the effective date of this AD in accordance with Boeing Service Bulletin DC9-30-097, dated February 15, 2002; and Boeing Service Bulletin DC9-30-097, Revision 01, dated January 24, 2003; are considered acceptable for compliance with the corresponding actions specified in this AD.

Alternative Methods of Compliance

(e)(1) In accordance with 14 CFR 39.19, the Manager, Los Angeles Aircraft Certification Office, FAA, is authorized to approve alternative methods of compliance for this AD.

(2) Before using any AMOC approved in accordance with 14 CFR 39.19 on any airplane to which the AMOC applies, notify the appropriate principal inspector in the FAA Flight Standards Certificate Holding District Office.

Issued in Renton, Washington, on December 12, 2005.
Ali Bahrami,
Manager, Transport Airplane Directorate, Aircraft Certification Service.

[FR Doc. 05-24246 Filed 12-19-05; 8:45 am]

BILLING CODE 4910-13-P